DEPARTMENT OF HOMELAND SECURITY

Coast Guard

[USCG-2010-0266]

Collection of Information Under Review by Office of Management and Budget; OMB Control Numbers: 1625-0007, 1625-0074, 1625-0084, 1625-0093, and 1625-0102

AGENCY: Coast Guard, DHS.

ACTION: Thirty-day Notice requesting comments.

SUMMARY: In compliance with the Paperwork Reduction Act of 1995, this request for comments announces that the U.S. Coast Guard is forwarding five Information Collection Requests (ICRs), abstracted below, to the Office of Information and Regulatory Affairs (OIRA), Office of Management and Budget (OMB) requesting an extension of its approval for the following collections of information: (1) 1625-0007, Characteristics of Liquid Chemicals Proposed for Bulk Water Movement; (2) 1625-0074, Direct User Fees for Inspection or Examination of U.S. and Foreign Commercial Vessels; (3) 1625-0084, Audit Reports under the International Safety Management Code; (4) 1625-0093, Facilities Transferring Oil or Hazardous Materials in Bulk—Letter of Intent and Operations Manual; and (5) 1625-0102, National Response Resource Inventory. Our ICRs describes the information we seek to collect from the public. This notice describes the information we seek to collect. Review and comments by OIRA ensure we only impose paperwork burdens commensurate with our performance of duties.

DATES: Comments must reach the Coast Guard on or before August 9, 2010.

ADDRESSES: You may submit comments identified by Coast Guard docket number [USCG-2010-0266] to the Docket Management Facility (DMF) at the U.S. Department of Transportation (DOT) or to OIRA. To avoid duplication, please submit your comments by only one of the following means:

(1) Online: (a) To Coast Guard docket at http://www.regulation.gov. (b) To OIRA by e-mail via: oira_submission@omb.eop.gov.

(2) Mail: (a) DMF (M-30), DOT, West Building Ground Floor, Room W12-140, 1200 New Jersey Avenue, SE., Washington, DC 20590-0001. (b) To OIRA, 725 17th Street, NW., Washington, DC 20503, to the attention of the Desk Officer for the Coast Guard.

(3) Hand Delivery: To DMF address above, between 9 a.m. and 5 p.m., Monday through Friday, except Federal holidays. The telephone number is 202-366-9329.

(4) Fax. (a) To DMF, 202-493-2251. (b) To OIRA at 202-395-5806. To ensure your comments are received in a timely manner, mark the fax, attention Desk Officer for the Coast Guard.

The DMF maintains the public docket for these Notices. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from:

Commandant (CG-611), Attn Paperwork Reduction Act Manager, U.S. Coast Guard, 2100 2nd St., SW., Stop 7101, Washington, DC 20593-7101.

FOR FURTHER INFORMATION CONTACT: Contact Mr. Arthur Requina, Office of Information Management, telephone 202-475-3523, or fax 202-475-3929, for questions on these documents. Contact Ms. Renee V. Wright, Program Manager, Docket Operations, 202-366-9826, for questions on the docket.

SUPPLEMENTARY INFORMATION: The Coast Guard invites comments on whether these ICRs should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of the collections on respondents, including the use of automated collection techniques or other forms of information technology.

Comments to Coast Guard or OIRA must contain the OMB Control Number of the ICRs. They must also contain the docket number of this request, [USCG-2010-0266]. For your comments to OIRA to be considered, it is best if they are received on or before August 9, 2010.

Public participation and request for comments: We encourage you to respond to this request by submitting comments and related materials. We will post all comments received, without change, to http://www.regulations.gov. They will include any personal information you provide. We have an agreement with DOT to use their DMF. Please see the “Privacy Act” paragraph below.

Submitting comments: If you submit a comment, please include the docket number [USCG-2010-0266], indicate the specific section of the document to which each comment applies, providing a reason for each comment. We recommend you include your name, mailing address, an e-mail address, or other contact information in the body of your document so that we can contact you if we have questions regarding your submission. You may submit comments and material by electronic means, mail, fax, or delivery to the DMF at the address under ADDRESSES; but please submit them by only one means. If you submit them by mail or delivery, submit them in an unbound format, no larger than 8-½ by 11 inches, suitable for copying and electronic filing. If you submit them by mail and would like to know that they reached the Facility, please enclose a stamped, self-addressed postcard or envelope. In response to your comments, we may revise the ICRs or decide not to seek an extension of approval for these collections. The Coast Guard and OIRA will consider all comments and material received during the comment period.

Viewing comments and documents: Go to http://www.regulations.gov to view documents mentioned in these Notices as being available in the docket. Click on the “read comments” box, which will then become highlighted in blue. In the “Keyword” box insert “USCG-2010-0266” and click “Search.” Click the “Open Docket Folder” in the “Actions” column. You may also visit the DMF in room W12-140 on the West Building Ground Floor, 1200 New Jersey Avenue SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Previous Request for Comments

This request provides a 30-day comment period required by OIRA. The Coast Guard published the 60-day Notice (75 FR 20616, April 20, 2010) as required by 44 U.S.C. 3506(c)(2). That Notice elicited no comments.

Information Collection Requests

1. Title: Characteristics of Liquid Chemicals Proposed for Bulk Water Movement.

OMB Control Number: 1625-0007.

Type of Request: Extension of a currently approved collection.

Respondents: Manufacturers of chemicals.

Abstract: Title 46 CFR parts 30 to 40, 151, 153, and 154 govern the transportation of hazardous materials. The chemical industry constantly produces new materials that must be moved by water. Each having unique characteristics requiring special attention to their mode of shipment.

Forms: None.

Burden Estimate: The estimated burden has increased from 78 hours to 600 hours a year.

2. Title: Direct User Fees for Inspection or Examination of U.S. and Foreign Commercial Vessels.

OMB Control Number: 1625-0074.

Type of Request: Extension of a currently approved collection.

Respondents: Owners of vessels.

Abstract: The Omnibus Budget Reconciliation Act of 1990 [Pub. L. 101-508], which amended 46 U.S.C. 2110, requires the Coast Guard to collect user fees from inspected vessels. To properly collect and manage these fees, the Coast Guard must have requisite current identification information to ensure efficiency.

Forms: None.

Burden Estimate: The estimated burden hours has decreased from 4,268 hours to 4,160 hours a year.

3. Title: Audit Reports under the International Safety Management (ISM) Code.

OMB Control Number: 1625-0084.

Type of Request: Extension of a currently approved collection.

Respondents: Owners, operators of vessels, and organizations authorized to issue ISM Code certificates for the United States.

Abstract: Title 46 U.S.C. 3203 authorizes the Coast Guard to prescribe regulations regarding safety management systems. The rules for those systems, hence the safe operation of vessels are contained in 33 CFR part 96.

Forms: None.

Burden Estimate: The estimated burden has increased from 16,873 hours to 18,610 hours a year.

4. Title: Facilities Transferring Oil or Hazardous Materials in Bulk—Letter of Intent and Operations Manual.

OMB Control Number: 1625-0093.

Type of Request: Extension of a currently approved collection.

Respondents: Operators of facilities that transfer oil or hazardous materials in bulk.

Abstract: Under 33 U.S.C. 1321 and Executive Order 12777, the Coast Guard is authorized to prescribe regulations to prevent the discharge of oil/hazardous substances from facilities and to contain such discharges. The Letter of Intent is contained in 33 CFR 154.110 and the Operations Manual is contained in 33 CFR part 154 subpart B.

Forms: None.

Burden Estimate: The estimated burden has increased from 53,960 hours to 90,076 hours a year.

5. Title: National Response Resource Inventory.

OMB Control Number: 1625-0102.

Type of Request: Extension of a currently approved collection.

Respondents: Oil spill removal organizations.

Abstract: Section 4202 of the Oil Pollution Act of 1990 (Pub. L. 101-380) requires the Coast Guard to compile and maintain a comprehensive list of spill removal equipment. This collection helps fulfill the requirement.

Forms: None.

Burden Estimate: The estimated burden remains 1,296 hours a year.

Authority: The Paperwork Reduction Act of 1995; 44 U.S.C. Chapter 35, as amended.

Dated: July 2, 2010.
M.B. Lytle,
Captain, U.S. Coast Guard, Acting Assistant Commandant for Command, Control, Communications, Computers and Information Technology.

[FR Doc. 2010-16720 Filed 7-8-10; 8:45 am]

BILLING CODE 9110-04-P